DEPARTMENT OF THE INTERIOR

Bureau of Indian Affairs

[167 A2100DD/AAKC001030/A0A501010.999900]

Notice of Deadline for Submitting Completed Applications To Begin Participation in the Tribal Self-Governance Program in Fiscal Year 2017 or Calendar Year 2017

AGENCY: Bureau of Indian Affairs, Interior.

ACTION: Notice.

SUMMARY: In this notice, the Office of Self-Governance (OSG) establishes a deadline of March 1, 2016, for Indian tribes/consortia to submit completed applications to begin participation in the tribal self-governance program in Fiscal Year 2017 or Calendar Year 2017.

DATES: Completed application packages must be received by the Director, Office of Self-Governance, by March 1, 2016.

ADDRESSES: Application packages for inclusion in the applicant pool should be sent to Ms. Sharee M. Freeman, Director, Office of Self-Governance, Department of the Interior, Mail Stop 355-G-SIB, 1951 Constitution Avenue NW., Washington, DC 20240.

FOR FURTHER INFORMATION CONTACT: Dr. Kenneth D. Reinfeld, Office of Self-Governance, telephone (703) 390-6551.

SUPPLEMENTARY INFORMATION: Under the Tribal Self-Governance Act of 1994 (Pub. L. 103-413), as amended by the Fiscal Year 1997 Omnibus Appropriations Bill (Pub. L. 104-208), the Director, Office of Self-Governance may select up to 50 additional participating tribes/consortia per year for the tribal self-governance program, and negotiate and enter into a written funding agreement with each participating tribe. The Act mandates that the Secretary submit copies of the funding agreements at least 90 days before the proposed effective date to the appropriate committees of the Congress and to each tribe that is served by the Bureau of Indian Affairs (BIA) agency that is serving the tribe that is a party to the funding agreement. Initial negotiations with a tribe/consortium located in a region and/or agency which has not previously been involved with self-governance negotiations, will take approximately two months from start to finish. Agreements for an October 1 to September 30 funding year need to be signed and submitted by July 1. Agreements for a January 1 to December 31 funding year need to be signed and submitted by October 1.

Purpose of Notice

The regulations at 25 CFRs 1000.10 to 1000.31 will be used to govern the application and selection process for tribes/consortia to begin their participation in the tribal self-governance program in Fiscal Year 2017 and Calendar Year 2017. Applicants should be guided by the requirements in these subparts in preparing their applications. Copies of these subparts may be obtained from the information contact person identified in this notice.

Tribes/consortia wishing to be considered for participation in the tribal self-governance program for fiscal year 2017 or calendar year 2017 must respond to this notice, except for those tribes/consortia which are: (1) Currently involved in negotiations with the Department; or (2) one of the 115 tribal entities with signed agreements.

Paperwork Reduction Act Statement

Under the Paperwork Reduction Act of 1995 (PRA), as implemented by the Office of Management and Budget (OMB) in 5 CFR 1320, a person is not required to respond to a collection of information by a Federal Agency unless the collection displays a valid OMB control number. The application and reporting requirements related to this program are considered to be a collection of information subject to the requirements of the PRA. These submissions are required to obtain and/or retain a benefit. The OMB has approved the information collections related to this program and has assigned control number 1076-0143, Tribal Self-Governance Program, which expires January 31, 2016. We estimate the annual burden associated with this collection to average 55 hours per respondent. This includes the time for reviewing instructions and gathering and submitting the information to the Department. Comments regarding this collection may be directed to: Information Collection Clearance Officer, Office of Regulatory Affairs & Collaborative Action—Indian Affairs, 1849 C Street NW., MS-3642-MIB, Washington, DC 20240.

Dated: December 14, 2015.
Kevin K. Washburn,
Assistant Secretary—Indian Affairs.

[FR Doc. 2015-31891 Filed 12-18-15; 8:45 am]

BILLING CODE 4337-15-P